SECURITIES AND EXCHANGE COMMISSION

17 CFR Parts 200 and 240

[Release No. 34-44569, File No. S7-12-01]

RIN 3235-AI19

Extension of Comment Period on Interim Final Rules on Definition of Terms in and Specific Exemptions for Banks, Savings Associations, and Savings Banks Under Sections 3(a)(4) and 3(a)(5) of the Securities Exchange Act of 1934

AGENCY: Securities and Exchange Commission.

ACTION: Interim final rules; extension of comment period.

SUMMARY: The Securities and Exchange Commission (“Commission”) is extending the comment period for its interim final rules that define certain terms used in, and grant exemptions from, the definitions of “broker” and “dealer” under the Securities Exchange Act of 1934, contained in Release No. 34-44291, 66 FR 27760 (May 18, 2001).¹ The original comment period ended July 17, 2001. The new deadline for submitting public comments is September 4, 2001.

¹ We are simultaneously issuing an order further extending until May 12, 2002 the compliance dates for banks, savings associations, and savings banks with respect to the broker-dealer registration requirements contained in the Gramm-Leach-Bliley Act. The text of the order will be available on the Commission's website at http://www.sec.gov.

DATES: Public comments are due on or before September 4, 2001.

ADDRESSES: Please send three copies of your comment letter to Jonathan G. Katz, Secretary, Securities and Exchange Commission, 450 5th Street, NW., Washington, DC 20549-0609. Comments can also be sent electronically to the following e-mail address: rule-comments@sec.gov. Your comment letter should refer to File No. S7-12-01. If e-mail is used, include this file number on the subject line. Anyone can inspect and copy the comment letters in the Commission's Public Reference Room at 450 5th St., NW., Washington, DC 20549. Electronically submitted comments will be posted on the Commission's Internet web site (http://www.sec.gov).

FOR FURTHER INFORMATION CONTACT: Catherine McGuire, Chief Counsel; Lourdes Gonzalez, Assistant Chief Counsel; Linda Stamp Sundberg, Banking Fellow; Patricia Albrecht, Special Counsel; or Joseph Corcoran, Attorney, (202) 942-0073, Office of Chief Counsel, Division of Market Regulation, Securities and Exchange Commission, 450 5th Street, NW., Washington, DC 20549-1001.

SUPPLEMENTARY INFORMATION: On May 11, 2001, the Securities and Exchange Commission issued interim final rules to address the functional exceptions for banks from the new definitions of “broker” and “dealer” that were added to the Exchange Act by the Gramm-Leach-Bliley Act. The rules are designed to provide guidance on, and to grant exemptive relief, from the new definitions. The deadline for submitting public comments established by the adopting release was July 17, 2001. The Commission has received requests to extend the deadline so that commenters have more time to address the issues raised by the interim final rules. The Commission believes that it is appropriate to give commenters additional time and, therefore, we are extending the comment period to September 4, 2001.

Dated: July 18, 2001.
By the Commission.
Margaret H. McFarland,
Deputy Secretary.

[FR Doc. 01-18356 Filed 7-23-01; 8:45 am]

BILLING CODE 8010-01-P